DEPARTMENT OF HEALTH AND HUMAN SERVICES

National Institutes of Health

Center for Scientific Review: Amended Notice of Meeting

Notice is hereby given of a change in the meeting of the Cell Biology Integrated Review Group, Nuclear and Cytoplasmic Structure/Function and Dynamics Study Section, January 29, 2015, 8 a.m. to January 30, 2015, 5 p.m., Embassy Suites at the Chevy Chase Pavilion, 4300 Military Road NW., Washington, DC 20015 which was published in the Federal Register on December 29, 2014, 79 FR 78095.

The meeting will be held on January 29, 2015. The meeting time and location remain the same. The meeting is closed to the public.

Dated: December 29, 2014.
Anna Snouffer,
Deputy Director, Office of Federal Advisory Committee Policy.

[FR Doc. 2014-30761 Filed 12-31-14; 8:45 am]

BILLING CODE 4140-01-P